DEPARTMENT OF COMMERCE

National Oceanic and Atmospheric Administration

RIN 0648-XF644

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a 3-day meeting of its Standing, Reef Fish, and Socioeconomics Scientific and Statistical Committees (SSC).

DATES: The meeting will convene on Tuesday, September 12, 2017, from 9 a.m. to 5 p.m., Wednesday, September 13, 2017, from 8:30 a.m. to 5 p.m. and Thursday, September 14, 2017, from 8:30 a.m. to 2 p.m. EDT.

ADDRESSES: The meeting will be held in the Gulf Council's Conference Room.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Day 1—Tuesday, September 12, 2017; 9 a.m.-5 p.m.

I. Introductions and Adoption of Agenda

II. Approval of Minutes

a. March 27-29, 2017 SSC meeting

b. May 10, 2017 SSC webinar

III. Selection of SSC representative at October 2-5, 2017 Council meeting in Biloxi, MS

Standing and Socioeconomic SSC Session

IV. Grouper and Tilefish 5-year IFQ Review

a. Safety at sea

b. Stakeholders survey

Standing, Socioeconomic and Reef Fish SSC Session

V. Alternative Approaches to Recreational Red Snapper Management

a. Review of relevant legislative approaches

b. Other alternative approaches to recreational red snapper management

Standing and Reef Fish SSC Session

VI. Further Development of a Stock Assessment Prioritization Spreadsheet

Day 2—Wednesday, September 13, 2017: 8:30 a.m.-5 p.m.

VII. Review of Draft Status Determination Criteria Options Paper

VIII. A Comparison of Recent Stock Assessment Results Using SS3 vs. DLMToolkit

a. Greater amberjack

b. Gray triggerfish

IX. SEDAR Activities

a. Status of SEDAR 48—black grouper benchmark assessment

b. FWC Gulf hogfish update assessment—Terms of Reference

c. SEDAR 61 Gulf red grouper standard assessment

i. Terms of reference

ii. Project schedule

iii. Assessment workshop appointments

X. Review of Draft Generic Amendment—Carry-over Provision and Framework Modifications

a. Simulation of the Effect of Carrying Over Unused ACL

Day 3—Thursday, September 14, 2017: 8:30 a.m.-2 p.m.

XI. Evaluating Robustness of Harvest Control Rules to Future Red Tide Events

XII. Spawning Aggregations in the Gulf of Mexico

a. RESTORE Act Science Program project on spawning aggregations in the Gulf of Mexico

b. Prediction and Verification of Snapper-Grouper Spawning Aggregation Sites on the Offshore Banks of the Northwestern Gulf of Mexico

XIII. Review of Framework Action to Modify the ACT for Red Snapper Federal For-Hire and Private Angler Components

XIV. Review of Closed Season Decision Tool and Analysis for Greater Amberjack

XV. Tentative 2018 SSC Meeting Dates

XVI. Other Business

—Meeting Adjourns

You may register for the SSC Meeting: Standing, Reef Fish, and Socioeconomic on September 12-14, 2017 at: https://attendee.gotowebinar.com/register/4690969987648505603.

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting—2017-09”.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: August 24, 2017.
Tracey L. Thompson,
Acting Deputy Director, Office of Sustainable Fisheries, National Marine Fisheries Service.

[FR Doc. 2017-18302 Filed 8-28-17; 8:45 am]

BILLING CODE 3510-22-P